DEPARTMENT OF THE INTERIOR

Fish and Wildlife Service

DEPARTMENT OF COMMERCE

National Oceanic and Atmospheric Administration

[Docket Nos. FWS-HQ-ES-2015-0177 and 160223138-6138-01; FF09E40000 156 FXES11150900000; 160223138-6999-02]

RIN 1018-BB08; 0648-BF79

Candidate Conservation Agreements With Assurances Policy

AGENCY: U.S. Fish and Wildlife Service, Interior; National Marine Fisheries Service, National Oceanic and Atmospheric Administration, Commerce.

ACTION: Announcement of revised policy; delay of effective date.

SUMMARY: In accordance with a January 20, 2017, memo from the White House, we, the U.S. Fish and Wildlife Service and the National Marine Fisheries Service (Services), are delaying the effective date of a policy we published on December 27, 2016.

DATES: The effective date of the revised policy that published on December 27, 2016, at 81 FR 95164, is delayed from January 26, 2017, to March 21, 2017.

FOR FURTHER INFORMATION CONTACT: Jeff Newman, Chief, Division of Recovery and Restoration, U.S. Fish and Wildlife Service Headquarters, MS: ES, 5275 Leesburg Pike, Falls Church, VA 22041-3803 (telephone 703-358-2171); or Angela Somma, Chief, Endangered Species Conservation Division, Office of Protected Resources, National Marine Fisheries Service, 1315 East-West Highway, Silver Spring, MD 20910 (telephone 301-427-8403, facsimile 301-713-0376). Persons who use a telecommunications device for the deaf may call the Federal Relay Service at 800-877-8339.

SUPPLEMENTARY INFORMATION: On December 27, 2016, the Services announced revisions to the Candidate Conservation Agreements with Assurances policy under the Endangered Species Act of 1973, as amended. We added a definition of “net conservation benefit” to this policy and eliminated references to the confusing requirement of “other necessary properties” to clarify the level of conservation effort each agreement needs to include in order to be approved. The revisions to the policy were to take effect on January 26, 2017.

On January 20, 2017, the White House issued a memo instructing Federal agencies to temporarily postpone the effective date for 60 days after January 20, 2017, of any regulations or guidance documents that have published in the Federal Register but not yet taken effect, for the purpose of “reviewing questions of fact, law, and policy they raise.” We are, therefore, delaying the effective date of our revised policy published on December 27, 2016, at 81 FR 95164 (see DATES, above).

Authority: The authority for this action is the Endangered Species Act of 1973, as amended (16 U.S.C. 1531 et seq.).

Dated: January 23, 2017.
Tina A. Campbell,
Chief, Division of Policy, Performance, and Management Programs, U.S. Fish and Wildlife Service.
Dated: January 23, 2017.
Samuel D. Rauch III,
Acting Assistant Administrator for Fisheries, National Marine Fisheries Service.

[FR Doc. 2017-01840 Filed 1-25-17; 8:45 am]

BILLING CODE 4333-15-P